FEDERAL DEPOSIT INSURANCE CORPORATION

Agency Information Collection Activities: Submission for OMB Review; Comment Request

AGENCY: Federal Deposit Insurance Corporation.

ACTION: Notice of information collection to be submitted to OMB for review and approval under the Paperwork Reduction Act of 1995.

SUMMARY: In accordance with requirements of the Paperwork Reduction Act of 1995 (44 U.S.C. 3501 et seq.), the FDIC hereby gives notice that it plans to submit to the Office of Management and Budget (OMB) for review and approval the information collection system described below.

Type of Review: Revision of a currently approved collection.

Title: Forms Relating to Outside Counsel, Expert and Legal Support Services Programs.

Form Numbers: 5000/24, 5000/25, 5000/26, 5000/27, 5000/28, 5000/29, 5000/31, 5000/32, 5000/33, 5000/34, 5000/35, 5000/36, 5200/01, 5210/01, 5210/02, 5210/03, 5210/03A, 5210/04, 5210/04A, 5210/06, 5210/06(A), 5210/08, 5210/09, 5210/10, 5210/10(A), 5210/11, 5210/12, 5210/12A, 5210/14, and 5210/15.

OMB Number: 3064-0122.

Annual Burden:

Estimated annual respondents: 4,603.

Estimated time per response: .50 hour to 1 hour.

Total annual burden hours: 3,711.

Expiration Date of OMB Clearance: June 30, 2005.

SUPPLEMENTARY INFORMATION: The collection ensures that outside counsel, legal services providers and experts that contract with the FDIC meet the eligibility requirements established by Congress and enables the FDIC to monitor contract compliance and expenditures.

DATES: Comments on this collection of information are welcome and should be submitted on or before March 29, 2004 to both the OMB reviewer and the FDIC contact listed below.

ADDRESSES: Information about this submission, including copies of the proposed collection of information, may be obtained by calling or writing the FDIC contact listed below.

Leneta G. Gregorie, (202) 898-3719, Legal Division, Federal Deposit Insurance Corporation, 550 17th Street, NW., Washington, DC 20429.

Joseph F. Lackey, Jr., Office of Management and Budget, Office of Information and Regulatory Affairs, New Executive Office Building, Room 10236, Washington, DC 20503.

Dated: February 20, 2004.
Federal Deposit Insurance Corporation.
Robert E. Feldman,
Executive Secretary.

[FR Doc. 04-4220 Filed 2-25-04; 8:45 am]

BILLING CODE 6714-01-P